DEPARTMENT OF THE INTERIOR

National Park Service

[NPS-WASO-NRNHL-0611-7767; 2280-665]

National Register of Historic Places; Notification of Pending Nominations and Related Actions

Nominations for the following properties being considered for listing or related actions in the National Register were received by the National Park Service before June 18, 2011. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St. NW., 8th floor, Washington DC 20005; or by fax, 202-371-6447. Written or faxed comments should be submitted by July 27, 2011. Before including your address, phone number, e-mail address, or other personal identifying information in your comment, you should be aware that your entire comment—including your personal identifying information—may be made publicly available at any time. While you can ask us in your comment to withhold your personal identifying information from public review, we cannot guarantee that we will be able to do so.

James Gabbert,
Acting Chief, National Register of Historic Places/National Historic Landmarks Program.

ARIZONA

Pima County

Valley of the Moon, 2544 E. Allen Rd., Tucson, 11000480

DISTRICT OF COLUMBIA

District of Columbia

Saint Paul African Union Methodist Church, 401 I St. SE., Washington, 11000481

NORTH CAROLINA

Macon County

Highlands North Historic District, 608-650, 507-615 Hickory St., 760-856, 827 N. 5th St., 23-29, 425 Brock Ct., 802, 850-854 N. 4th St. 29 Martha's Ln., Highlands, 11000482

McDowell County

Carson—Young House, 842 Major Conley Rd., Marion, 11000483

Wake County

Hi-Mount Historic District, (Post-World War II and Modern Architecture in Raleigh, NC, 1845-1965 MPS) Roughly bounded by E. Whitaker Mill Rd., Bernard, Peebles, Main & Hilton Sts., Raleigh, 11000484

SOUTH DAKOTA

Codington County

Melham, Andrew and Lulu, House, (North End Neighborhood MPS) 721 1st St., NW., Watertown, 11000485

Hamlin County

Hanson, M.O., Building, 126 E. Main St., Castlewood, 11000486

VIRGINIA

Smyth County

Marion Historic District (Boundary Increase), W. Cherry, E. Main, N. Main, Maple, N. Chestnut, Broad & N. Commerce Sts., Marion, 11000487

WISCONSIN

Lafayette County

Pecatonica Battlefield, 2995 Cty. Rd. Y, Wiota, 11000488

[FR Doc. 2011-17239 Filed 7-11-11; 8:45 am]

BILLING CODE 4312-51-P